NATIONAL SCIENCE FOUNDATION

National Science Board; Committee on Programs and Plans; Sunshine Act Meetings; Notice

The National Science Board's Committee on Programs and Plans, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: Monday, August 6, 2007 at 1:30 PM.

Subject Matter: Discussion of proposals and awards for specific grants, contracts, or other arrangements:

• Support for the National Magnetic Field Laboratory for FY 2008-2012.

• High Performance Computing.

• Proposals for High Performance Computing for Science and Engineering Research and Education: Operations.

• Advanced Technology Solar Telescope.

Status: Closed.

This meeting will be held at the National Science Foundation, Room 1235, 4201 Wilson Blvd., Arlington, VA 22230. Please refer to the National Science Board Web site (http://www.nsf.gov/nsb) for information or schedule updates, or contact: Dr. Robert Webber, National Science Board Office, 4201 Wilson Blvd., Arlington, VA 22230. Telephone: (703) 292-7000.

Russell Moy,
Attorney-Advisor.

[FR Doc. E7-13577 Filed 7-11-07; 8:45 am]

BILLING CODE 7555-01-P